DEPARTMENT OF TRANSPORTATION

Federal Aviation Administration

14 CFR Part 39

[Docket No. FAA-2023-2135; Project Identifier MCAI-2023-00509-T; Amendment 39-22701; AD 2024-05-10]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for certain Airbus Canada Limited Partnership Model BD-500-1A10 and BD-500-1A11 airplanes. This AD was prompted by a report of multiple occurrences of low clearance or fouling between certain wiring harnesses and a hydraulic bracket and structure in the wing trailing edge area that were detected on the production line. This AD requires inspecting certain wiring harnesses for any damage and clearance to adjacent structure and corrective actions, as specified in a Transport Canada AD, which is incorporated by reference. The FAA is issuing this AD to address the unsafe condition on these products.

DATES: This AD is effective May 22, 2024.

The Director of the Federal Register approved the incorporation by reference of a certain publication listed in this AD as of May 22, 2024.

ADDRESSES:

AD Docket: You may examine the AD docket at regulations.gov under Docket No. FAA-2023-2135; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

• You may view this material at the FAA, Airworthiness Products Section, Operational Safety Branch, 2200 South 216th St., Des Moines, WA. For information on the availability of this material at the FAA, call 206-231-3195. It is also available in the AD docket at regulations.gov under Docket No. FAA-2023-2135.

FOR FURTHER INFORMATION CONTACT: Gabriel Kim, Aviation Safety Engineer, FAA, 1600 Stewart Avenue, Suite 410, Westbury, NY 11590; phone: 516-228-7300; email: 9-avs-nyaco-cos@faa.gov.

SUPPLEMENTARY INFORMATION:

Background

The FAA issued a notice of proposed rulemaking (NPRM) to amend 14 CFR part 39 by adding an AD that would apply to certain Airbus Canada Limited Partnership Model BD-500-1A10 and BD-500-1A11 airplanes. The NPRM published in the Federal Register on October 27, 2023 (88 FR 73772). The NPRM was prompted by AD CF-2023-20, dated March 22, 2023, issued by Transport Canada, which is the aviation authority for Canada (Transport Canada AD CF-2023-20) (also referred to as the MCAI). The MCAI states that multiple occurrences of low clearance or fouling between certain wiring harnesses and a hydraulic bracket and structure in the wing trailing edge area were detected on the production line. These conditions were caused by an inappropriate distribution of slack in the wiring harnesses. Low clearance or fouling between the wiring harnesses and adjacent structure could result in wear of the harnesses leading to electrical arcing. Arcing in the presence of a leak from the hydraulic lines in the area could lead to a fire.

In the NPRM, the FAA proposed to require inspecting certain wiring harnesses for any damage and clearance to adjacent structure and corrective actions, as specified in Transport Canada AD CF-2023-20. The NPRM also proposed to require an inspection report. The FAA is issuing this AD to address the unsafe condition on these products.

You may examine the MCAI in the AD docket at regulations.gov under Docket No. FAA-2023-2135.

Discussion of Final Airworthiness Directive

Comments

The FAA received comments from Delta Air Lines (Delta). The following presents the comments received on the NPRM and the FAA's response to each comment.

Request to Correct Left- and Right-Side References in Figures

Delta requested that an exception be added to paragraph (h) of the proposed AD to correct mis-labeled figures and part numbers. Delta stated that figures have been labeled as being for the right-hand side when the figures actually shows the left-hand side. Delta also provided a table of the part numbers as identified in the service information and what the correct part number should be. Delta stated that it found these errors while accomplishing the proposed requirements, sent the information to Airbus Canada, and received confirmation from Airbus Canada of the errors and that the errors would be fixed in a later revision of service information. Delta proposed language to be inserted into the proposed AD and included the phrase “or later revision” to allow use of service information containing the correct location and part numbers.

The FAA agrees to add paragraph (h)(4) and table 1 to this AD to specify the errors and provide the correct location and part number information. The FAA also agrees to allow use of later approved service information, as explained under “Request to Allow Use of Later Revision of Service Information” of this final rule.

Request to Allow Use of Later Revision of Service Information

Delta requested that the proposed AD be revised to allow “or later revisions of the service information required by the MCAI.” Delta explained that it anticipates the release of a new revision that contains corrections discussed above.

The FAA agrees. The FAA has coordinated with Transport Canada and added a new exception in paragraph (h)(5) of this AD.

Request To Add an Exception That Defines Inspection Area

Delta requested adding an exception to paragraph (h) of the proposed AD that would more narrowly define the inspection area described by paragraph B. of Transport Canada AD CF-2023-20. Delta stated that paragraph B. of Transport Canada AD CF-2023-20 is vague and implies a wider inspection area than that defined by Airbus Canada Service Bulletin BD500-240012, Issue 003, dated March 17, 2023.

The FAA disagrees. Paragraph B. of Transport Canada AD CF-2023-20 refers to “inspected harnesses,” which narrows the affected area to the specified harnesses that were inspected using the specifications of Paragraph A of Transport Canada AD CF-2023-20. Paragraph A of Transport Canada AD CF-2023-20 specifies using the inspection procedures described in Airbus Canada Service Bulletin BD500-240012, Issue 003, dated March 17, 2023. The FAA has not revised this AD in this regard.

Additional Changes Made to This Final Rule

References to an inspection report, which were inadvertently included in the preamble of the NPRM, have been removed from this final rule.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

Transport Canada AD CF-2023-20 specifies procedures for inspecting certain wiring harnesses for damage and clearance to adjacent structure and corrective actions. Corrective actions include adjustment of wiring harnesses, replacing damaged braid sleeves, and contacting the manufacturer for repair instructions for worn or damaged harnesses. This material is reasonably available because the interested parties have access to it through their normal course of business or by the means identified in the ADDRESSES section.

Costs of Compliance

The FAA estimates that this AD affects 157 airplanes of U.S. registry. The FAA estimates the following costs to comply with this AD:

Estimated costs for required actions
Labor cost | Parts cost | Cost per product | Cost on U.S. operators
Up to 7 work-hours × $85 per hour = Up to $595 | $0 | Up to $595 | Up to $93,415

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-05-10 Airbus Canada Limited Partnership (Type Certificate Previously Held by C Series Aircraft Limited Partnership (CSALP); Bombardier, Inc.): Amendment 39-22701; Docket No. FAA-2023-2135; Project Identifier MCAI-2023-00509-T.

(a) Effective Date

This airworthiness directive (AD) is effective May 22, 2024.

(b) Affected ADs

None.

(c) Applicability

This AD applies to Airbus Canada Limited Partnership (Type Certificate previously held by C Series Aircraft Limited Partnership (CSALP); Bombardier, Inc.) Model BD-500-1A10 and BD-500-1A11 airplanes, certificated in any category, as identified in Transport Canada AD CF-2023-20, dated March 22, 2023 (Transport Canada AD CF-2023-20).

(d) Subject

Air Transport Association (ATA) of America Code 24, Electrical Power.

(e) Unsafe Condition

This AD was prompted by a report of multiple occurrences of low clearance or fouling between certain wiring harnesses and a hydraulic bracket and structure in the wing trailing edge area that were detected on the production line. The FAA is issuing this AD to address inappropriate distribution of slack in the wiring harness. The unsafe condition, if not addressed, could result in wear of the harnesses, leading to electrical arcing. Arcing in the presence of a leak from the hydraulic lines in the area could lead to a fire.

(f) Compliance

Comply with this AD within the compliance times specified, unless already done.

(g) Requirements

Except as specified in paragraph (h) of this AD: Comply with all required actions and compliance times specified in, and in accordance with, Transport Canada AD CF-2023-20.

(h) Exceptions to Transport Canada AD CF-2023-20

(1) Where Transport Canada AD CF-2023-20 refers to its effective date, this AD requires using the effective date of this AD.

(2) Where Transport Canada AD CF-2023-20 refers to hours air time, this AD requires using flight hours.

(3) Where paragraph A. of Transport Canada AD CF-2023-20 states to “adjust as required,” this AD requires that all applicable adjustments must be done before further flight.

(4) Where Transport Canada AD CF-2023-20 specifies actions using Airbus Canada Service Bulletin BD500-240012, Issue 003, dated March 17, 2023, this AD requires adding the information in figure 1 to paragraph (h)(4) of this AD to paragraph A. of Transport Canada AD CF-2023-20.

Figure 1 to paragraph (h)(4)—Corrections To Service Information Figures

(5) Where paragraph A. of Transport Canada AD CF-2023-20 specifies “Airbus Canada Service Bulletin (SB) BD500-240012, Issue 003, dated 17 March 2023,” this AD requires replacing that text with “Airbus Canada Service Bulletin (SB) BD500-240012, Issue 003, dated 17 March 2023, or later revision approved by Transport Canada.”

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Airbus Canada Limited Partnership's Transport Canada Design Approval Organization (DAO). If approved by the DAO, the approval must include the DAO-authorized signature.

(3) Required for Compliance (RC): Except as required by paragraph (i)(2) of this AD, if any service information contains procedures that are identified as RC, those procedures must be done to comply with this AD; any procedures that are not identified as RC are recommended. Those procedures that are not identified as RC may be deviated from using accepted methods in accordance with the operator's maintenance or inspection program without obtaining approval of an AMOC, provided the procedures identified as RC can be done and the airplane can be put back in an airworthy condition. Any substitutions or changes to procedures identified as RC require approval of an AMOC.

(j) Additional Information

For more information about this AD, contact Gabriel Kim, Aviation Safety Engineer, FAA, 1600 Stewart Avenue, Suite 410, Westbury, NY 11590; phone: 516-228-7300; email: 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Transport Canada AD CF-2023-20, dated March 22, 2023.

(ii) [Reserved]

(3) For Transport Canada AD CF-2023-20, contact Transport Canada, Transport Canada National Aircraft Certification, 159 Cleopatra Drive, Nepean, Ontario K1A 0N5, Canada; telephone 888-663-3639; email TC.AirworthinessDirectives-Consignesdenavigabilite.TC@tc.gc.ca. You may find this Transport Canada AD on the Transport Canada website at tc.canada.ca/en/aviation.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on March 4, 2024.
Victor Wicklund,
Deputy Director, Compliance & Airworthiness Division, Aircraft Certification Service.

[FR Doc. 2024-08102 Filed 4-16-24; 8:45 am]

BILLING CODE 4910-13-P